DEPARTMENT OF LABOR

Employment and Training Administration

[TA-W-70,829]

Schnadig Corporation, Belmont, MS; Notice of Negative Determination Regarding Application for Reconsideration

By application dated November 11, 2009, a petitioner requested administrative reconsideration of the Department's negative determination regarding eligibility to apply for Trade Adjustment Assistance (TAA), applicable to workers and former workers of the subject firm. The denial notice was signed on October 21, 2009 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition filed on behalf of workers at Schnadig Corporation, Belmont, Mississippi was based on the finding that imports of services like or directly competitive with services provided by workers of the subject firm did not contribute to worker separations at the subject firm during the relevant period. The investigation revealed that workers of the subject firm were engaged in distribution and warehousing services of furniture. The subject firm did not import nor acquire services from a foreign country and also did not shift the provision of these services to a foreign country.

In the request for reconsideration, the petitioner stated that workers of the subject firm were previously certified eligible for TAA based on increased imports of upholstered residential furniture.

The workers of Schnadig Corporation, Belmont Mississippi were previously certified eligible for TAA under petition number TA-W-60,5765, which expired on January 5, 2009. The investigation revealed that at that time workers of the subject firm were engaged in production of upholstered residential furniture and the employment declines at the subject facility were attributed to the subject firm's increase in imports of furniture.

When assessing eligibility for TAA, the Department exclusively considers worker activities during the relevant period (from one year prior to the date of the petition). Therefore, events occurring in 2007 are outside of the relevant period and are not considered in this investigation.

The investigation revealed that workers of the subject firm were engaged in distribution and warehousing services during the relevant period. These functions, as described above, were not imported, or shifted abroad nor were the service acquired from a foreign country during the relevant period. Therefore, criteria II.A. and II.B. of Section 222(a) of the Act were not met. Furthermore, with the respect to Section 222(c) of the Act, the investigation revealed that criterion 2 was not met because the workers did not supply a service that was used by a firm with TAA-certified workers in the production of an article or supply of a service that was a basis for TAA certification.

The petitioner also stated that Schnadig Corporation, Belmont, Mississippi was purchased by another company, which shifted all operations from the subject firm to a facility in Greensboro, North Carolina.

The information regarding a shift in services from the subject facility to another location in the United States was revealed during the initial investigation. However, the criteria regarding the shift in services specifically states that the services have to be shifted to a foreign country. Therefore, a mere shift in services to another domestic facility does not preclude workers' eligibility for TAA.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC this 10th day of December, 2009.
Elliott S. Kushner,
Certifying Officer, Division of Trade Adjustment Assistance.

[FR Doc. E9-30253 Filed 12-18-09; 8:45 am]

BILLING CODE 4510-FN-P